DEPARTMENT OF TRANSPORTATION

Federal Aviation Administration

14 CFR Part 39

[Docket No. FAA-2004-18998; Directorate Identifier 2003-NM-253-AD; Amendment 39-14121; AD 2005-12-05]

RIN 2120-AA64

Airworthiness Directives; Boeing Model 737-200, 737-300, 737-400, 737-500, 737-600, 737-700, 737-800, 737-900, 757-200, and 757-300 Series Airplanes; and McDonnell Douglas Model DC-10-10, DC-10-10F, DC-10-30, DC-10-30F, DC-10-40, MD-10-10F, MD-10-30F, MD-11, and MD-11F Airplanes

AGENCY: Federal Aviation Administration (FAA), Department of Transportation (DOT).

ACTION: Final rule.

SUMMARY: The FAA is superseding an existing airworthiness directive (AD), which applies to certain transport category airplanes. That AD currently requires modification of the reinforced flight deck door. This new AD expands the applicability of the existing AD and requires other actions related to the reinforced flight deck door. These other actions include modifying the door, inspecting and modifying wiring in the area, and revising the maintenance program to require more frequent testing of the decompression panels of the flight deck door. This AD is prompted by reports of discrepancies with the reinforced flight deck door. We are issuing this AD to prevent inadvertent release of the decompression latch and consequent opening of the decompression panel in the flight deck door, or penetration of the flight deck door by smoke or shrapnel, any of which could result in injury to the airplane flightcrew. This AD also requires finding and fixing wire chafing, which could result in arcing, fire, and/or reduced controllability of the airplane.

DATES: This AD becomes effective July 19, 2005.

The incorporation by reference of certain publications listed in the AD is approved by the Director of the Federal Register as of July 19, 2005.

On July 25, 2003 (68 FR 41063, July 10, 2003), the Director of the Federal Register approved the incorporation by reference of certain other publications listed in the AD.

ADDRESSES: For service information identified in this AD, contact Boeing Commercial Airplanes, P.O. Box 3707, Seattle, Washington 98124-2207; or C&D Aerospace, 5701 Bolsa Avenue, Huntington Beach, California 92647-2063.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2004-18998; the directorate identifier for this docket is 2003-NM-253-AD.

FOR FURTHER INFORMATION CONTACT: Ron Atmur, Aerospace Engineer, Airframe Branch, ANM-120L, FAA, Los Angeles Aircraft Certification Office, 3960 Paramount Boulevard, Lakewood, California 90712-4137; telephone (562) 627-5224; fax (562) 627-5210.

SUPPLEMENTARY INFORMATION: The FAA proposed to amend part 39 of the Federal Aviation Regulations (14 CFR part 39) with an AD to supersede AD 2003-14-04, amendment 39-13223 (68 FR 41063, July 10, 2003). The existing AD applies to certain Boeing Model 737-200, 737-300, 737-400, 737-500, 737-600, 737-700, 737-800, 737-900, 757-200, and 757-300 series airplanes; and McDonnell Douglas Model DC-10-10F, DC-10-30, DC-10-30F, DC-10-40, MD-10-30F, MD-11, and MD-11F airplanes. The proposed AD was published in the Federal Register on September 3, 2004 (69 FR 53848), to continue to require modification of the reinforced flight deck door. The proposed AD would also expand the applicability of the existing AD and require other actions related to the reinforced flight deck door. These other actions include modifying the door, inspecting and modifying wiring in the area, and revising the maintenance program to require more frequent testing of the decompression panels of the flight deck door.

Comments

We provided the public the opportunity to participate in the development of this AD. We have considered the comments that have been submitted on the proposed AD.

Support and Conditional Support for the Proposed AD

One commenter supports the intent and language of the proposed AD.

A second commenter supports the proposed AD, provided that an adequate supply of parts is available for the modification to be accomplished within the proposed 18-month compliance time.

C&D Aerospace has indicated that they will be able to supply an adequate number of parts during the proposed compliance time. We have not changed the AD in this regard.

Request To Omit Requirement To Reduce Test Intervals

One commenter does not support reducing the interval for the repetitive functional test of the decompression panels of the flight deck door, which would be required by paragraph (i) of the proposed AD. (Paragraph (i) of the proposed AD would require revising the FAA-approved maintenance inspection program to include the information in C&D Aerospace Report CDRB22-69, Revision E, dated November 8, 2002. Revision E of that report reduces the repetitive interval for functional testing of the decompression panels of the flight deck door.) The commenter states that the proposed AD does not state a justification for a reduction in the testing intervals. The commenter states that the current inspection interval is sufficient. The commenter recommends that we gather and review more operational data before we increase the testing interval.

We do not concur. Our decision to require incorporating Revision E of C&D Aerospace Report CDRB22-69, and the increased testing frequency specified in that document, is based on analysis by the manufacturer, not on in-service findings. Testing of the decompression panels has been required only for a short time, and few inspections have been accomplished. For this reason, a lack of detected failures would not justify maintaining the current inspection interval. We also note that reinforced flight deck doors delivered after November 8, 2002 (the issue/approval date of Revision E of C&D Aerospace Report CDRB22-69), are already subject to the reduced repetitive testing interval. We have not changed the final rule in this regard.

Request To Omit Requirement To Strengthen Smoke Screen

One commenter requests that we do not require strengthening the smoke screen on the flight deck door's decompression panels. The commenter states that this action is not cited in the proposed AD, and no service bulletin has been issued to support the strengthening of the smoke screen.

We do not agree. We find that it is necessary to require strengthening of the smoke screen on the flight deck door's decompression panels. This action is included in the modification required by paragraph (j) of this AD. The rationale for this decision is stated in the “Actions Since Existing AD Was Issued” section of the proposed AD: “* * * strengthening the smoke screens will allow the smoke screens to close properly and prevent smoke from entering the flight deck in the event of a fire in the airplane. Smoke in the flight deck could hinder the flightcrew's ability to continue to fly the airplane safely.” The Relevant Service Information section of the proposed AD specifies that procedures for modifying the smoke screens are included in C&D Aerospace Service Bulletin B211200-52-02, Revision 2, dated September 29, 2003 (for certain McDonnell Douglas Model DC-10, MD-10, and MD-11 airplanes), and in C&D Aerospace Service Bulletin B251200-52-01, dated April 30, 2003 (for certain Model MD-11 airplanes). Table 3 of this AD references these service bulletins. We have not changed this AD in this regard.

Request To Omit Requirement To Install Placard

One commenter requests that we omit from paragraph (j) of the proposed AD the proposed requirement to install a placard. The commenter points out that the service bulletins specified in Table 3 of the proposed AD for Boeing Model 737 and 757 series airplanes include instructions for installing placards to show that the service bulletin has been done. The commenter states that it has contacted C&D Aerospace and C&D Aerospace is unable to provide additional placards should the original one be lost or need replacement. The commenter is concerned that the proposed wording of the AD would require it to install and maintain the placards to be in compliance with the proposed AD.

We agree that installing the placard is not necessary to address the unsafe condition. We have revised paragraph (j) of this AD to state that, where the service bulletins referenced in Table 3 of this AD specify installing a placard to show that the service bulletin has been accomplished, this AD does not require that action.

Request To Omit Requirement To Rework Wiring

One commenter does not support the proposed requirement in paragraph (l)(1) that would require reworking the wiring for the flight deck door. The commenter feels that the rework is not needed, even though the door manufacturer has provided information to modify the airplane. The commenter states that its established operational procedures, including but not limited to a pre-flight operational check of the flight deck door by the flightcrew, obviate the need for the proposed wiring rework. Moreover, the commenter states that other operational procedures make it unlikely that security would be adversely affected if we were to omit the requirement to rework the wiring.

We do not agree. As we stated in the proposed AD, we have determined that an unsafe condition exists related to certain wiring in the area of the flight deck door on affected airplanes. For an unsafe condition such as this one, we can better ensure long-term continued operational safety by requiring modifications or design changes to remove the source of the problem, rather than by requiring repetitive inspections or operational tests. Long-term inspections or tests may not provide the degree of safety necessary for the transport airplane fleet. This, coupled with a better understanding of the human factors associated with numerous repetitive inspections/tests, has led us to consider placing less emphasis on special procedures and more emphasis on design improvements. The requirement in this AD to rework wiring in the area of the flight deck door is consistent with these considerations. We have not changed the AD in this regard.

Request for Credit for Accomplishment of Previous Service Bulletin Revisions

One commenter requests that we give credit for actions required by paragraph (j) of this AD that were accomplished in accordance with the issues of the service bulletins listed in the table below. The commenter states that the instructions for the modifications in these previous revisions are similar to the instructions in the service bulletins listed in Table 3 of the proposed AD.

Credit Service Bulletins
Service bulletin | Revision level | Date
C&D Aerospace Service Bulletin B211200-52-01 | Original | February 27, 2003.
C&D Aerospace Service Bulletin B211200-52-01 | 1 | March 7, 2003.
C&D Aerospace Service Bulletin B211200-52-01 | 2 | June 3, 2003.
C&D Aerospace Service Bulletin B211200-52-02 | Original | April 30, 2003.
C&D Aerospace Service Bulletin B221001-52-03 | Original | December 6, 2002.
C&D Aerospace Service Bulletin B221001-52-03 | 1 | January 2, 2003.
C&D Aerospace Service Bulletin B221001-52-03 | 2 | February 20, 2003.
C&D Aerospace Service Bulletin B221200-52-01 | Original | April 30, 2003.
C&D Aerospace Service Bulletin B231001-52-02 | Original | December 6, 2002.
C&D Aerospace Service Bulletin B231001-52-02 | 1 | January 2, 2003.
C&D Aerospace Service Bulletin B231001-52-02 | 2 | February 20, 2003.
C&D Aerospace Service Bulletin B231001-52-02 | 3 | March 7, 2003.

(The pages of C&D Aerospace Service Bulletin B231001-52-02, Revision 3, are each dated February 7, 2003. However, the Revision Transmittal Sheet is dated March 7, 2003. Since Revision 2 of that service bulletin is dated February 20, 2003, we have determined that March 7, 2003, is the correct date for Revision 3 of the service bulletin.)

We concur with the intent of the commenter's request. Actions accomplished before the effective date of this AD in accordance with the applicable service bulletin revisions identified by the commenter are acceptable for compliance with the corresponding requirement of paragraph (j) of this AD. However, after the effective date of this AD, required actions must be accomplished in accordance with the applicable service bulletin identified in Table 3 of this AD. We have added a new paragraph (l) to this AD (and re-identified subsequent paragraphs accordingly) and have added Table 4 to this AD to give credit for actions accomplished before the effective date of this AD.

Request To Refer to Latest Service Bulletin Revision and Give Credit for Prior Issues

One commenter requests that we revise paragraph (l)(1) of the proposed AD (which is identified as paragraph (m)(1) of this AD) to require C&D Aerospace Alert Service Bulletin B221001-52A05, Revision 3, dated October 3, 2003. Paragraph (l)(1) of the proposed AD refers to C&D Aerospace Alert Service Bulletin B221001-52A05, Revision 2, dated June 19, 2003, as the appropriate source of service information for the actions required by that paragraph. The commenter also requests that we give credit for actions done in accordance with C&D Aerospace Alert Service Bulletin B221001-52A05, dated April 17, 2003; Revision 1, dated May 14, 2003; and Revision 2.

We concur with the intent of the commenter's request. The procedures in C&D Aerospace Alert Service Bulletin B221001-52A05, Revision 3, are similar to those in Revision 2 of that service bulletin. We have revised paragraph (m)(1) of this AD to require the rework of wiring be done in accordance with Revision 3 of the service bulletin. We have also revised paragraph (m)(1) to give credit for actions done before the effective date of this AD in accordance with the original issue, Revision 1, or Revision 2 of that service bulletin. However, only Revision 3 of the service bulletin is acceptable for actions accomplished on or after the effective date of this AD.

Request To Correct Incorrect References

One commenter requests that we revise the proposed AD to correct incorrect references. The commenter notes that the Costs of Compliance section and Table 3 of the proposed AD refer to C&D Aerospace Service Bulletin B251200-52-01, dated April 30, 2003, as an “alert” service bulletin. The commenter points out that C&D Aerospace Service Bulletin B251200-52-01 was not released as an alert service bulletin. We have revised all references to this service bulletin in this AD to remove “alert.”

The commenter also notes that Table 1 does not refer to the correct supplemental type certificate (STC) that applies to Boeing Model 757 series airplanes. The commenter notes that the applicable STC number is ST01334LA. We have revised Table 1 of this AD accordingly.

Request To Refer to Latest Service Bulletin Issue

One commenter requests that we revise Table 2 of the proposed AD to refer to C&D Aerospace Service Bulletin B211200-52-02, Revision 2, dated September 29, 2003, instead of Revision 1, dated June 3, 2003. The commenter notes that Revision 2 is the latest issue of that service bulletin.

We do not concur with this request. Table 2 of this AD restates the applicability of AD 2003-14-04 to establish which airplanes are subject to the actions required by paragraphs (f) and (g) of this AD. (Paragraphs (f) and (g) restate the requirements of AD 2003-14-04.) C&D Aerospace Service Bulletin B211200-52-02, Revision 1, was the issue referenced in the applicability of AD 2003-14-04. We note that paragraph (f)(3) of this AD, which requires accomplishment of certain actions in C&D Aerospace Service Bulletin B211200-52-02, references both Revisions 1 and 2 of that service bulletin. We have made no change in this regard.

Conclusion

We have carefully reviewed the available data, including the comments that have been submitted, and determined that air safety and the public interest require adopting the AD with the changes described previously. We have determined that these changes will neither increase the economic burden on any operator nor increase the scope of the AD.

Costs of Compliance

There are about 3,423 airplanes of the affected design worldwide.

The following table provides the estimated costs for U.S. operators to comply with the currently required actions that this AD will continue to require, at an average labor rate of $65 per work hour.

Estimated Costs: Existing Requirements of AD 2003-14-04
Airplane Models | As listed in C&D Aerospace Service Bulletin— | Work hours | Parts | Cost per airplane | Number of U.S.-registered airplanes | Fleet cost
737 | B221001-52-03, Revision 3 | 1 | $0 | $65 | 1,040 | $67,600
757 | B231001-52-02, Revision 4 | 2 | 0 | 130 | 519 | 67,470
DC-10, MD-10, MD-11 | B211200-52-02, Revision 1 | 2 | 0 | 130 | 21 | 2,730

The following table provides the estimated costs for U.S. operators to comply with the new actions that will be required by this AD, at an average labor rate of $65 per work hour.

Estimated Costs: New Requirements
Airplane models | Action | Work hours | Parts | Cost per airplane | Number of U.S.-registered airplanes | Fleet cost
737 | Modification in C&D Aerospace Service Bulletin B221001-52-03, Revision 3 | 1 | $0 | $65 | Airplanes not modified under AD 2003-14-04 | N/A
737, 757 | Revision of maintenance program | 1 | None | 65 | 651 | $42,315
737, 757 | Modification in C&D Aerospace Service Bulletin B221200-52-01, Revision 1 | 1 | $0 | 65 | 1,673 | 108,745
737-200 | Modification in C&D Aerospace Alert Service Bulletin B221001-52A05, Revision 3 | 1 | None | 65 | 134 | 8,710
737-200 | Inspection in C&D Aerospace Alert Service Bulletin B221001-52A02 | 2 | None | 130 | 134 | 17,420
757 | Modification in C&D Aerospace Service Bulletin B231001-52-02, Revision 4 | 2 | $0 | 130 | Airplanes not modified under AD 2003-14-04 | N/A
DC-10, MD-11, MD-11F | Modification in C&D Aerospace Service Bulletin B211200-52-01, Revision 3 | 1 | $0 | 65 | 155 | 10,075
DC-10, MD-10, MD-11 | Modification in C&D Aerospace Service Bulletin B211200-52-02 | 2 | $0 | 130 | Airplanes not modified under AD 2003-14-04 | N/A
MD-11 | Modification in C&D Aerospace Service Bulletin B251200-52-01 | 1 | $0 | 65 | 6 | 390

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-13223 (68 FR 41063, July 10, 2003), and by adding the following new airworthiness directive (AD):

2005-12-05 Transport Category Airplanes: Amendment 39-14121. Docket No. FAA-2004-18998; Directorate Identifier 2003-NM-253-AD.

Effective Date

(a) This AD becomes effective July 19, 2005.

Affected ADs

(b) This AD supersedes AD 2003-14-04, amendment 39-13223.

Applicability: (c) This AD applies to the airplanes listed in Table 1 of this AD, certificated in any category.

Table 1.—Affected Airplane Models
Airplane manufacturer | Airplane model | Modified by Supplemental Type Certificate (STC)
Boeing | 737-200, -300, -400, -500, -600, -700, -800, and -900 series | ST01335LA
Boeing | 757-200 and -300 series | ST01334LA
McDonnell Douglas | DC-10-10, DC-10-10F, DC-10-30, DC-10-30F, DC-10-40, MD-10-10F, MD-10-30F, MD-11, and MD-11F | ST01391LA

Unsafe Condition

(d) This AD was prompted by reports of discrepancies with the reinforced flight deck door. We are issuing this AD to prevent inadvertent release of the decompression latch and consequent opening of the decompression panel in the flight deck door, or penetration of the flight deck door by smoke or shrapnel, any of which could result in injury to the airplane flightcrew. We are also issuing this AD to find and fix wire chafing, which could result in arcing, fire, and/or reduced controllability of the airplane.

Compliance: (e) You are responsible for having the actions required by this AD performed within the compliance times specified, unless the actions have already been done.

Requirements of AD 2003-14-04

Note 1: Where there are differences between this AD and the referenced service bulletins, this AD prevails.

Modification

(f) For airplanes listed in Table 2 of this AD: Within 90 days after July 25, 2003 (the effective date of AD 2003-14-04, amendment 39-13223), modify the reinforced flight deck door according to paragraph (f)(1), (f)(2), or (f)(3) of this AD, as applicable.

Table 2.—Airplane Models Subject to Requirements of AD 2003-14-04
Airplane manufacturer | Airplane model | As listed in C&D Aerospace Service Bulletin—
Boeing | 737-200, -300, -400, -500, -600, -700, -800, and -900 series | B221001-52-03, Revision 3, dated March 25, 2003
Boeing | 757-200 and -300 series | B231001-52-02, Revision 4, dated March 19, 2003.
McDonnell Douglas | DC-10-10F, DC-10-30, DC-10-30F, DC-10-40, MD-10-30F, MD-11, and MD-11F | B211200-52-02, Revision 1, dated June 3, 2003.

(1) For Boeing Model 737-200, -300, -400, -500, -600, -700, -800, and -900 series airplanes: Modify the upper and lower pressure relief latch assemblies on the flight deck door by doing all actions specified in and according to paragraphs 3.A., 3.B., and 3.C. of the Accomplishment Instructions of C&D Aerospace Service Bulletin B221001-52-03, Revision 3, dated March 25, 2003. One latch strap should be installed at the bottom of the upper pressure relief assembly, and a second latch strap should be installed at the top of the lower pressure relief assembly. When properly installed, the strap should cover a portion of the latch hook.

(2) For Boeing Model 757-200 and -300 series airplanes: Modify the upper and lower pressure relief latch assemblies on the flight deck door by doing all actions specified in and according to paragraphs 3.A., 3.B., and 3.C. of the Accomplishment Instructions of C&D Aerospace Service Bulletin B231001-52-02, Revision 4, dated March 19, 2003. One latch strap should be installed at the bottom of the upper pressure relief assembly, and a second latch strap should be installed at the top of the lower pressure relief assembly. When properly installed, the strap should cover a portion of the latch hook.

(3) For McDonnell Douglas DC-10-10F, DC-10-30, DC-10-30F, DC-10-40, MD-10-30F, MD-11, and MD-11F airplanes: Install spacers in the upper and lower pressure relief latch assemblies of the flight deck door, by doing all actions specified in and according to paragraphs 3.A., 3.C., and 3.D. of C&D Aerospace Service Bulletin B211200-52-02, Revision 1, dated June 3, 2003; or Revision 2, dated September 29, 2003.

Modifications Accomplished Per Previous Issues of Service Bulletin

(g) For airplanes listed in Table 2 of this AD: Modifications accomplished before July 25, 2003, in accordance with a service bulletin listed in paragraph (g)(1), (g)(2), or (g)(3) of this AD; as applicable; are considered acceptable for compliance with the corresponding action specified in paragraph (f) of this AD.

(1) For Boeing Model 737-200, -300, -400, -500, -600, -700, -800, and -900 series airplanes: C&D Aerospace Service Bulletin B221001-52-03, dated December 6, 2002; Revision 1, dated January 2, 2003; or Revision 2, dated February 20, 2003.

(2) For Boeing Model 757-200 and -300 series airplanes: C&D Aerospace Service Bulletin B231001-52-02, dated December 6, 2002; Revision 1, dated January 2, 2003; Revision 2, dated February 20, 2003; or Revision 3, dated March 7, 2003.

(3) For McDonnell Douglas DC-10-10F, DC-10-30, DC-10-30F, DC-10-40, MD-10-30F, MD-11, and MD-11F airplanes: C&D Aerospace Service Bulletin B211200-52-02, dated April 30, 2003.

Parts Installation

(h) As of July 25, 2003, no person may install, on any airplane, a reinforced flight deck door having any part number listed in the paragraph 1.A. of C&D Aerospace Service Bulletin B221001-52-03, Revision 3, dated March 25, 2003; B231001-52-02, Revision 4, dated March 19, 2003; or B211200-52-02, Revision 1, dated June 3, 2003; as applicable; unless the door has been modified as required by paragraph (f) of this AD.

New Requirements of This AD:

Model 737 and 757 Series Airplanes: Revise Maintenance Program

(i) For Model 737-200, -300, -400, -500, -600, -700, -800, and -900 series airplanes; and Model 757-200 and -300 series airplanes: Within 6 months after the effective date of this AD, revise the FAA-approved maintenance inspection program to include the information specified in C&D Aerospace Report CDRB22-69, Revision E, dated November 8, 2002.

Modifications to Flight Deck Door

(j) Modify the reinforced flight deck door by doing all applicable actions specified in the applicable service bulletin listed in Table 3 of this AD at the applicable compliance time specified in that table. Where the applicable service bulletin includes an instruction to install a placard to show that the service bulletin has been accomplished, this AD does not require that action.

Table 3.—New Modifications to the Flight Deck Door
For these models— | Equipped with a flight deck door assembly having this P/N— | Within this compliance time after the effective date of this AD— (months) | Do all actions in the accomplishment instructions of—
McDonnell Douglas DC-10-10, DC-10-10F, DC-10-30, DC-10-30F, DC-10-40, MD-10-10F, MD-10-30F, MD-11, and MD-11F airplanes | B211200 | 6 | C&D Aerospace Service Bulletin B211200-52-01, Revision 3, dated September 18, 2003.
McDonnell Douglas Model MD-11 and MD-11F airplanes | B251200 | 6 | C&D Aerospace Service Bulletin B251200-52-01, dated April 30, 2003.
Boeing Model 737-200, -300, -400, -500, -600, -700, -800, and -900 series airplanes; and Model 757-200 and -300 | B221200 | 18 | C&D Aerospace Service Bulletin B221200-52-01, Revision 1, dated June 27, 2003
Boeing Model 737-200, -300, -400, -500, -600, -700, -800, and -900 series airplanes | B221001 | 18 | C&D Aerospace Service Bulletin B221001-52-03, Revision 3, dated March 25, 2003; except as provided by paragraph (k) of this AD.
Boeing Model 757-200 and-300 series airplanes | B231001 | 18 | C&D Aerospace Service Bulletin B231001-52-02, Revision 4, dated March 19, 2003; except as provided by paragraph (k) of this AD.
McDonnell Douglas DC-10-10, DC-10-10F, DC-10-30, DC-10-30F, DC-10-40, MD-10-10F, MD-10-30F, MD-11, and MD-11F airplanes | B211200 | 18 | C&D Aerospace Service Bulletin B211200-52-02, Revision 1, dated June 3, 2003; or Revision 2, dated September 29, 2003, except as provided by paragraph (k) of this AD.

(k) For airplanes subject to paragraph (f) of this AD: Actions required by paragraph (f) of this AD that were done within the compliance time specified in paragraph (f) of this AD do not need to be repeated in accordance with paragraph (j) of this AD.

Modifications Accomplished Per Previous Issues of Service Bulletin

(l) Modifications accomplished before the effective date of this AD in accordance with an applicable service bulletin listed in Table 4 of this AD are considered acceptable for compliance with the corresponding action specified in paragraph (j) of this AD.

Table 4.—Acceptable Service Information for Previous Modifications
Service bulletin | Revision level | Date
C&D Aerospace Service Bulletin B211200-52-01 | Original | February 27, 2003.
C&D Aerospace Service Bulletin B211200-52-01 | 1 | March 7, 2003.
C&D Aerospace Service Bulletin B211200-52-01 | 2 | June 3, 2003.
C&D Aerospace Service Bulletin B211200-52-02 | Original | April 30, 2003.
C&D Aerospace Service Bulletin B221001-52-03 | Original | December 6, 2002.
C&D Aerospace Service Bulletin B221001-52-03 | 1 | January 2, 2003.
C&D Aerospace Service Bulletin B221001-52-03 | 2 | February 20, 2003.
C&D Aerospace Service Bulletin B221200-52-01 | Original | April 30, 2003.
C&D Aerospace Service Bulletin B231001-52-02 | Original | December 6, 2002.
C&D Aerospace Service Bulletin B231001-52-02 | 1 | January 2, 2003.
C&D Aerospace Service Bulletin B231001-52-02 | 2 | February 20, 2003.
C&D Aerospace Service Bulletin B231001-52-02 | 3 | March 7, 2003.

Model 737-200 Series Airplanes: Wiring Modification/Inspection

(m) For Model 737-200 series airplanes equipped with flight deck door assembly P/N B221001: Within 18 months after the effective date of this AD, do paragraphs (m)(1) and (m)(2) of this AD.

(1) Rework the wiring for the flight deck door to relocate a power wire for the flight deck door, in accordance with the Accomplishment Instructions of C&D Aerospace Alert Service Bulletin B221001-52A05, Revision 3, dated October 3, 2003. Actions accomplished before the effective date of this AD in accordance with C&D Aerospace Alert Service Bulletin B221001-52A05, dated April 17, 2003; Revision 1, dated May 14, 2003; and Revision 2, dated June 19, 2003; are acceptable for compliance with the corresponding action required by this paragraph.

(2) Perform a general visual inspection for chafing of wire bundles in the area of the flight deck door and applicable corrective actions by doing all of the actions in the Accomplishment Instructions of C&D Aerospace Alert Service Bulletin B221001-52A02, dated November 5, 2002. Any applicable corrective actions must be done before further flight.

Note 2: For the purposes of this AD, a general visual inspection is “a visual examination of an interior or exterior area, installation or assembly to detect obvious damage, failure or irregularity. This level of inspection is made from within touching distance unless otherwise specified. A mirror may be necessary to ensure visual access to all surfaces in the inspection area. This level of inspection is made under normal available lighting conditions such as daylight, hangar lighting, flashlight or drop-light and may require removal or opening of access panels or doors. Stands, ladders or platforms may be required to gain proximity to the area being checked.”

Parts Installation

(n) As of the effective date of this AD, no person may install a reinforced flight deck door under any STC listed in Table 1 of this AD, on any airplane, unless all applicable requirements of this AD have been done on the door.

Alternative Methods of Compliance (AMOCs)

(o)(1) The Manager, Los Angeles Aircraft Certification Office (ACO), FAA, has the authority to approve AMOCs for this AD, if requested in accordance with the procedures found in 14 CFR 39.19.

(2) Alternative methods of compliance, approved previously in accordance with AD 2003-14-04, amendment 39-13223, are approved as alternative methods of compliance with this AD.

Material Incorporated by Reference

(p) You must use the service information that is specified in Table 5 of this AD to perform the actions that are required by this AD, unless the AD specifies otherwise.

Table 5.—Material Incorporated by Reference
Service bulletin | Revision level | Date
C&D Aerospace Alert Service Bulletin B221001-52A02 | Original | November 5, 2002.
C&D Aerospace Alert Service Bulletin B221001-52A05 | 3 | October 3, 2003.
C&D Aerospace Service Bulletin B211200-52-01 | 3 | September 18, 2003.
C&D Aerospace Service Bulletin B211200-52-02 | 1 | June 3, 2003.
C&D Aerospace Service Bulletin B211200-52-02 | 2 | September 29, 2003.
C&D Aerospace Service Bulletin B221001-52-03 | 3 | March 25, 2003.
C&D Aerospace Service Bulletin B221200-52-01 | 1 | June 27, 2003.
C&D Aerospace Service Bulletin B231001-52-02 | 4 | March 19, 2003.
C&D Aerospace Service Bulletin B251200-52-01 | Original | April 30, 2003.
C&D Aerospace Report CDRB22-69 | E | November 8, 2002

(1) The Director of the Federal Register approves the incorporation by reference of the service information specified in Table 6 of this AD in accordance with 5 U.S.C. 552(a) and 1 CFR part 51.

Table 6.—New Material Incorporated by Reference
Service bulletin | Revision level | Date
C&D Aerospace Alert Service Bulletin B221001-52A02 | Original | November 5, 2002.
C&D Aerospace Alert Service Bulletin B221001-52A05 | 3 | October 3, 2003.
C&D Aerospace Service Bulletin B211200-52-01 | 3 | September 18, 2003.
C&D Aerospace Service Bulletin B211200-52-02 | 2 | September 29, 2003.
C&D Aerospace Service Bulletin B221200-52-01 | 1 | June 27, 2003.
C&D Aerospace Service Bulletin B2105200-52-01 | Original | April 30, 2003.
C&D Aerospace Report CDRB22-69 | E | November 8, 2002.

(2) The Director of the Federal Register previously approved the incorporation by reference of the service information specified in Table 7 of this AD as of July 25, 2003 (68 FR 41063, July 10, 2003).

Table 7.—Material Previously Incorporated by Reference
Service bulletin | Revision level | Date
C&D Aerospace Service Bulletin B211200-52-02 | 1 | June 3, 2003.
C&D Aerospace Service Bulletin B221001-52-03 | 3 | March 25, 2003.
C&D Aerospace Service Bulletin B231001-52-02 | 4 | March 19, 2003.

(3) To get copies of the service information, go to Boeing Commercial Airplanes, P.O. Box 3707, Seattle, Washington 98124-2207; or C&D Aerospace, 5701 Bolsa Avenue, Huntington Beach, California 92647-2063. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on May 26, 2005.
Ali Bahrami,
Manager, Transport Airplane Directorate, Aircraft Certification Service.

[FR Doc. 05-11514 Filed 6-13-05; 8:45 am]

BILLING CODE 4910-13-P